DEPARTMENT OF COMMERCE

National Oceanic and Atmospheric Administration

[I.D. 052505B]

New England Fishery Management Council; Public Meeting

AGENCY: National Marine Fisheries Service (NMFS), National Oceanic and Atmospheric Administration (NOAA), Commerce.

ACTION: Notice; committee meeting.

SUMMARY: The New England Fishery Management Council's (Council) Herring Oversight Committee along with the Atlantic States Marine Fisheries Commission (ASMFC) will meet to consider actions affecting New England fisheries in the exclusive economic zone (EEZ).

DATES: The meeting will be held on Monday, June 20, 2005, at 9:30 a.m.

ADDRESSES: Meeting address: The meeting will be held at the Eastland Park Hotel, 157 High Street, Portland, ME.

Council address: New England Fishery Management Council, 50 Water Street, Mill #2, Newburyport, MA 01950.

FOR FURTHER INFORMATION CONTACT: Paul J. Howard, Director, New England Fishery Management Council; telephone: (978) 465-0492.

SUPPLEMENTARY INFORMATION: The items of discussion in the committee's agenda are as follows:

Agenda for Monday, June 20, 2005

• Review and consider management alternatives to be included in the Draft Environmental Impact Statement (DSEIS) for Amendment 1 to the Herring Fishery Management Plan (FMP).

• Consider and approve the Amendment 1 DSEIS for public hearings and recommend preferred management alternatives/measures for Council consideration.

• Review and approve for public comment Draft Amendment 2 to the ASMFC Interstate Fishery Management Plan for Atlantic Herring.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Paul J. Howard (see ADDRESSES) at least 5 days prior to the meeting date.

Authority: 16 U.S.C. 1801 et seq.

Dated: May 27, 2005.
Tracey L. Thompson,
Acting Director, Office of Sustainable Fisheries, National Marine Fisheries Service.

[FR Doc. 05-10989 Filed 6-1-05; 8:45 am]

BILLING CODE 3510-22-S